DEPARTMENT OF COMMERCE

Foreign-Trade Zones Board

[Order No. 1982]

Reorganization and Expansion of Foreign-Trade Zone 49 Under Alternative Site Framework, Newark/Elizabeth, New Jersey

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Port Authority of New York and New Jersey, grantee of Foreign-Trade Zone 49, submitted an application to the Board (FTZ Docket B-56-2014, docketed 08-11-2014; amended 01-21-2015) for authority to reorganize and expand FTZ 49 under the ASF with a service area that includes the County of Hudson in its entirety, as well as those parts of the Counties of Bergen, Essex, Passaic, Union, Middlesex, Monmouth, Morris and Somerset, New Jersey, which lie within the Port Authority's jurisdiction known as the Port District, within and adjacent to the Newark/Elizabeth Customs and Border Protection port of entry. FTZ 49's existing Sites 1, 2, 3, 4, 6 and 13 would be categorized as magnet sites, and Sites 5, 14 and 15 would be categorized as usage-driven sites;

Whereas, notice inviting public comment was given in the Federal Register (79 FR 48726, August 18, 2014) and the application has been processed pursuant to the FTZ Act and the Board's regulations; and

Whereas, the Board adopts the findings and recommendation of the examiner's report, and finds that the requirements of the FTZ Act and the Board's regulations are satisfied;

Now, therefore, the Board hereby orders:

The amended application to reorganize and expand FTZ 49 under the ASF is approved, subject to the FTZ Act and the Board's regulations, including Section 400.13, to the Board's standard 2,000-acre activation limit for the zone, to an ASF sunset provision for magnet sites that would terminate authority for Sites 2, 3, 4, 6 and 13 if not activated within five years from the month of approval, and to an ASF sunset provision for usage-driven sites that would terminate authority for Sites 5, 14 and 15 if no foreign-status merchandise is admitted for a bona fide customs purpose within three years from the month of approval.

Signed at Washington, DC, this 8 day of May 2015.
Ronald K. Lorentzen,
Acting Assistant Secretary of Commerce for Enforcement and Compliance, Alternate Chairman, Foreign-Trade Zones Board.
ATTEST:__________
Andrew McGilvray,
Executive Secretary.

[FR Doc. 2015-11856 Filed 5-14-15; 8:45 am]

BILLING CODE 3510-DS-P